DEPARTMENT OF COMMERCE

National Oceanic and Atmospheric Administration

RIN 0648-XE541

Fisheries of the South Atlantic; South Atlantic Fishery Management Council (Council)—Scientific and Statistical Committee Meeting; Social and Economic Sciences Panel Meeting

AGENCY: National Marine Fisheries Service (NMFS), National Oceanic and Atmospheric Administration (NOAA), Commerce.

ACTION: The Scientific and Statistical Committee (SSC) and the Socio-Economic Panel (SEP) of the South Atlantic Fishery Management Council (Council) will hold a meeting.

SUMMARY: The Council's Scientific and Statistical Committee and its Socio-Economic Panel will meet May 3, 2016 through May 5, 2016.

DATES: The Socio-Economic Panel meeting will be held on Tuesday, May 3, 2016, from 8:30 a.m. to 12 p.m. The Scientific and Statistical Committee meeting will begin at 1:30 p.m. on Tuesday, May 3, 2016, and end at 3 p.m. on Thursday, May 5, 2016, to view the agenda, see SUPPLEMENTARY INFORMATION.

ADDRESSES: The meetings and workshop will be held at the Town & Country Inn and Suites, 2008 Savannah Hwy, Charleston, SC 29407; phone 800/334-6660 or 843/571-1000; fax 843/766-9444.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone 843/571-4366 or toll free 866/SAFMC-10; FAX 843/769-4520; email: kim.iverson@safmc.net.

SUPPLEMENTARY INFORMATION:

Agenda

The items of discussion in the meeting agenda are as follows:

The SEP Meeting, Tuesday, May 3, 2016

1. Discussion of Optimum Yield.

2. Review decision tree for management.

3. Discuss proposed management measures for Red Snapper.

4. Discuss portfolio approach in social effects analyses.

5. Receive an update on recent and developing Council actions, including the Citizen Science Initiative, Visioning, and all active amendments.

The SSC Meeting, Tuesday, May 3, 2016, through Thursday, May 5, 2016.

1. Receive an update on 2015 Landings, Annual Catch Limits (ACLs), Acceptable Biological Catches (ABCs) and Accountability Measures (AMs), the Marine Resources Monitoring, Assessment, and Prediction (MARMAP) Fishery Independent Index, and recent Southeast Data, Assessment and Review (SEDAR) activities.

2. Receive an update on the Mid-Atlantic SSC meeting regarding Blueline Tilefish.

3. Review a new bag and size limit analysis methodology.

4. Review the South Atlantic For-Hire Reporting Amendment and discus the data collection variables.

5. Review Snapper Grouper Amendment 41 for Mutton Snapper.

6. Receive an update on the proposed SEDAR research track to be used in lieu of a Benchmark stock assessment.

7. Review the stock assessments for Red Snapper, Gray Triggerfish, and the assessment update for Golden Tilefish.

8. Discuss and apply the National Marine Fisheries Service Assessment Prioritization to South Atlantic stocks.

9. Discuss the findings of the Spiny Lobster Review Panel.

10. Receive an update on the Council's Citizen Science Initiative.

11. Review a proposed Decision Tool for Hogfish management.

12. Review Snapper Grouper Amendment 37 for Hogfish.

13. Discuss proposed management options for Red Snapper.

14. Discuss revisions to the ABC Control Rule.

15. Review the report of the Socio-Economic Panel.

16. Receive an update on the Council's work plan and current amendments.

17. Hold elections for the Chair and Vice-Chair.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 p.m. Tuesday, April 26, 2016. Two opportunities for comment on agenda items will be provided during SSC meetings and noted on the agenda. The first will be at the beginning of the meeting, and the second near the conclusion, when the SSC reviews its recommendations.

Special Accommodations

This meeting is accessible to people with disabilities. Requests for auxiliary aids should be directed to the SAFMC office (see ADDRESSES) at least ten working days prior to the meeting.

Note: The times and sequence specified in this agenda are subject to change.

Authority: 16 U.S.C. 1801 et seq.

Dated: April 8, 2016.
Tracey L. Thompson,
Acting Director, Office of Sustainable Fisheries, National Marine Fisheries Service.

[FR Doc. 2016-08480 Filed 4-12-16; 8:45 am]

BILLING CODE 3510-22-P